DEPARTMENT OF AGRICULTURE

Rural Housing Service

[Docket No. RHS-23-CF-0003]

Community Facilities Technical Assistance and Training Grant Program for Fiscal Year 2023; Correction

AGENCY: Rural Housing Service, USDA.

ACTION: Notice of Funds Availability (NOFA); correction.

SUMMARY: The Rural Housing Service (RHS), a Rural Development agency of the United States Department of Agriculture (USDA), is correcting a notice of funding availability (NOFA) that was published in the Federal Register on April 21, 2023, entitled, “Community Facilities Technical Assistance and Training Grant Program for Fiscal Year 2023.” The Notice announced the acceptance of applications under the Community Facilities Technical Assistance and Training (TAT) Grant Program for fiscal year (FY) 2023. The document contained an incorrect date. The purpose of this notice is to correct the application deadline dates published in the Federal Register on April 21, 2023.

DATES: May 4, 2023.

FOR FURTHER INFORMATION CONTACT: Nathan Chitwood, Asset Risk Management Specialist at email address nathan.chitwood@usda.gov, United States Department of Agriculture, Rural Development, Business Loop 70 West, Suite 235, Columbia, MO 65203; or call; Telephone: 573-876-0965. For further information on submitting program applications under this notice, please contact the USDA RDSO in the state where the applicant's headquarters is located. A list of RDSO contacts is provided at the following link: https://www.rd.usda.gov/about-rd/state-offices.

SUPPLEMENTARY INFORMATION:

Correction

In the Federal Register of April 21, 2023, in FR Doc. 2023-08447, on page 24544, in the first column, correct the DATES caption to read as follows:

DATES: Paper submissions: Paper submissions must be received by the Agency no later than 4:00 p.m. local time on June 20, 2023, to be eligible for funding under this grant opportunity. Late or incomplete applications will not be eligible for funding.

Electronic submissions: Electronic submissions must be received no later than June 15, 2023, to be eligible for funding under this grant opportunity. Late or incomplete applications will not be eligible for funding. Electronic applications must be submitted via https://www.Grants.gov by 11:59 p.m. Eastern Time on June 15, 2023.

Joaquin Altoro,
Administrator, Rural Housing Service.

[FR Doc. 2023-09459 Filed 5-3-23; 8:45 am]

BILLING CODE 3410-XV-P